ENVIRONMENTAL PROTECTION AGENCY

[FRL-8256-5]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 2243.01; Procedures for Implementing NEPA; was approved 11/15/2006; OMB Control Number 2020-0033; expires 05/31/2007.

Short Term Extension

EPA ICR No. 0168.08; NPDES and Sewage Sludge Management State Programs; in 40 CFR part 122, 40 CFR 123.21-123.24, 40 CFR 123.26-123.29, 40 CFR 123.43-123.45, 40 CFR 123.62-123.64, 40 CFR 124.53-124.54, 40 CFR part 125, 40 CFR part 501, 40 CFR 123.26(e), 40 CFR 123.26(e)(5), 40 CFR 123.41(a), 40 CFR 501.21, 40 CFR 501.34, 40 CFR 501.11, 40 CFR 501.16, 40 CFR 123.26(b)(2) and (3), 40 CFR 124.53 and 124.54, 40 CFR 123.43 and 123.44, 40 CFR 501.14, 40 CFR 123.45, 40 CFR 501.21, 40 CFR 123.21, 40 CFR 123.64, 40 CFR 123.26(b)(1), (2) and(3), 40 CFR 123.43 and 123.44(i); OMB Number 2040-0057; on 11/21/2006, OMB extended the expiration date through 12/31/2006.

EPA ICR No. 2178.01; Market-based Stormwater Management in the Shepherd Creek Watershed in Cincinnati, OH; OMB Number 2080-0076; on 11/30/2006, OMB extended the expiration date through 03/31/2007.

EPA ICR No. 0220.09; Clean Water Act Section 404 State-Assumed Programs; in 40 CFR 233.10-233.14, 40 CFR 233.20-233.21, 40 CFR 233.30, 40 CFR 233.50, 40 CFR 233.52; OMB Number 2040-0168; on 11/21/2006, OMB extended the expiration date through 01/31/2007.

Dated: December 8, 2006.
Richard T. Westlund,
Acting Director, Collection Strategies Division.

[FR Doc. E6-21419 Filed 12-14-06; 8:45 am]

BILLING CODE 6560-50-P